DEPARTMENT OF COMMERCE

Foreign-Trade Zones Board

[Order No. 1470]

Approval of Expansion of Subzone 84C and of Expanded Manufacturing Authority (Crop Protection Products), E.I. du Pont de Nemours and Company, Inc., La Porte, Texas

Pursuant to its authority under the Foreign-Trade Zones Act of June 18, 1934, as amended (19 U.S.C. 81a-81u), the Foreign-Trade Zones Board (the Board) adopts the following Order:

Whereas, the Port of Houston Authority, grantee of Foreign-Trade Zone 84, has applied to expand Subzone 84C, at the E.I. du Pont de Nemours and Company, Inc. (Du Pont) plant located at one existing site and one proposed site in La Porte, Texas, and to expand the scope of manufacturing authority under zone procedures for Subzone 84C to include additional finished products (crop protection products) (FTZ Docket 26-2005, filed 5/27/2005);

Whereas, notice inviting public comment has been given in the Federal Register (70 FR 34446, 6/14/2005); and,

Whereas, the Board adopts the findings and recommendations of the examiner's report, and finds that the requirements of the FTZ Act and the Board's regulations would be satisfied, and that approval of the application would be in the public interest;

Now, therefore, the Board hereby orders:

The application to expand Subzone 84C, including one additional site, and for expanded manufacturing authority related to crop protection products, as described in the application and Federal Register notice, is hereby approved subject to the FTZ Act and the Board's regulations, including Section 400.28.

Signed at Washington, DC, this 26th day of July 2006.
David M. Spooner,
Assistant Secretary of Commerce for Import Administration, Alternate Chairman, Foreign-Trade Zones Board.
Attest:
Andrew McGilvray,
Acting Executive Secretary.

[FR Doc. E6-12481 Filed 8-1-06; 8:45 am]

BILLING CODE 3510-DS-S